DEPARTMENT OF HEALTH AND HUMAN SERVICES

Administration for Children and Families

Submission for OMB Review; Comment Request

Title: Evaluation of the Community Healthy Marriage Initiative.

OMB No.: New collection.

Description: The U.S. Department of Health and Human Services, Administration for Children and Families (ACF), is assisting states and local partners in improving child and family well-being by launching Community Healthy Marriage Initiatives (CHMIs) in several communities. Currently, several states are implementing CHMI demonstrations with support under section 1115 child support demonstration waivers. These projects are designed to promote child support enforcement objectives, including increasing parental responsibility and the financial well-being of children. Our project objective is to assess the effectiveness of community interventions designed to support healthy marriages by examining the way the projects operate and by evaluating the community impacts of these interventions on marital, child well-being and child support outcomes among low-income families. A unique feature of our study is the focus on evaluation of community-level approaches to encourage community changes in norms that increase support for healthy marriages.

All CHMI sites will receive an implementation evaluation that describes the nature of the community activities and their evolution over time. Primary data for the implementation evaluation will come from observations, interviews and records. This request is for semi-structured interviews and focus groups for the implementation evaluation.

In addition, an impact evaluation will take place in selected sites and will be integrated with the implementation evaluation. At a later date, comments will be sought on information collection for the impact evaluation. This evaluation will use detailed data collection through surveys to focus on the changes in marital, child well-being, and child support outcomes among low-income families in the community that result from CHMI activities. We will assess the impact of healthy marriage initiatives by comparing outcomes in the CHMI communities with similar outcomes in comparison communities that are well-matched to the project sites.

Respondents: Lead Project Staff, Service Provider Organization Staff, Key Community and Civic Stakeholders.

Annual Burden Estimates:

Interview/respondent | Number of respondents | Average number of responses per respondent | Average burden hours per response | Total burden hours
CHMI Administrative Interviews | 160—25 one-on-one interviews plus 3 group interviews with 5 individuals per group (25 + 15) = 40 respondents per site 40 respondents × 20 sites = 800 respondents/5 years = 160 respondents per year | 2 visits, on average | 1 | 320
CHMI Focus Groups | 80—20 focus group participants × 20 sites = 400 participants 400 participants/5 years = 80 participants per year | 1 | 1.5 | 120
Total Respondent Burden |  |  |  | 440

Additional Information:

Copies of the proposed collection may be obtained by writing to the Administration for Children and Families, Office of Administration, Office of Information Services, 370 L'Enfant Promenade, SW., Washington, DC 20447, Attn: ACF Reports Clearance Officer. All requests should be identified by the title of the information collection. E-mail address: grjohnson@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, e-mail address: Katherine_T._Astrich@omb.eop.gov.

Dated: May 27, 2005.
Robert Sargis,
Reports Clearance Officer.

[FR Doc. 05-11194 Filed 6-3-05; 8:45 am]

BILLING CODE 4184-01-M